DEPARTMENT OF DEFENSE

Office of the Secretary

[Docket ID: DoD-2025-OS-0003]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by September 2, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION: On July 29, 2025, the DoD published a notice titled “Proposed Collection; Comment Request” for Innovative Readiness Training Community Application; OMB Control Number 0704-0583 at 90 FR 35670. Subsequent to publication of the notice in the Federal Register, DoD realized that the notice had already published on January 10, 2025 (90 FR 1989-1990). The notice that published on July 29, 2025 should have been titled “Submission for OMB Review; Comment Request” and followed the usual format of that notice type. The DoD is publishing the July 29, 2025 notice in its entirety, this time correctly.

Title; Associated Form; and OMB Number: Innovative Readiness Training DD3225, “Community Application to Request Civil-Military Partnership and Support”; OMB Control Number 0704-0583.

Type of Request: Revision.

Number of Respondents: 250.

Responses per Respondent: 1.

Annual Responses: 250.

Average Burden per Response: 5.5 hours.

Annual Burden Hours: 1,375.

Needs and Uses: This information collection is necessary to support the Department of Defense's Innovative Readiness Training (IRT) program. Each year the military collects voluntary applications from communities requesting participation in IRT support activities. Communities respond to the collection as they will have a chance to receive incidental support and services from the DoD during the conduct of the IRT support and training. Currently, most IRT support activities are in the form of civil engineering projects, cyber, or medical care. However, IRT support is not limited to these, and any application is considered for its potential training value and incidental community benefit. The information collected allows the best possible match between the community and military training requirements while ensuring each applicant is eligible to receive support and services under 10 U.S.C. 2012.

Affected Public: Federal, State, local, or tribal governments.

Frequency: On occasion.

Respondents Obligation: Voluntary.

DoD Clearance Officer: Mr. Reginald Lucas.

Dated: July 30, 2025.
Aaron T. Siegel,
Alternate OSD Federal Register Liaison Officer, Department of Defense.

[FR Doc. 2025-14616 Filed 7-30-25; 4:15 pm]

BILLING CODE 6001-FR-P